DEPARTMENT OF EDUCATION

Disability and Rehabilitation Research Projects (DRRP) Program; Notice of Final Priority

AGENCY: National Institute on Disability and Rehabilitation Research (NIDRR), Office of Special Education and Rehabilitative Services, Department of Education.

ACTION: Notice of final priority.

SUMMARY: The Assistant Secretary for Special Education and Rehabilitative Services announces a final priority on Capacity Building, Coordination, and Collaboration projects under the Disability and Rehabilitation Research Projects (DRRP) Program of the National Institute on Disability and Rehabilitation Research (NIDRR). The Assistant Secretary may use this priority for competitions in fiscal year 2003 (FY) and later years. We take this action to focus research attention on an identified national need. We intend this priority to improve rehabilitation services and outcomes for individuals with disabilities from traditionally underserved racial and ethnic populations.

EFFECTIVE DATE: This priority is effective February 18, 2003.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP Program is to plan and conduct research, demonstration projects, training, and related activities that help to maximize the full inclusion and integration of individuals with disabilities into society and to improve the effectiveness of services authorized under the Rehabilitation Act of 1973, as amended (the Act).

Section 21

Section 21(b)(2)(A) of the Act authorizes NIDRR to make awards to minority entities and Indian tribes to carry out activities authorized under title II of the Act. A minority entity is defined as a historically black college or university (a Part B institution, as defined in section 322(2) of the Higher Education Act of 1965, as amended), a Hispanic-serving institution of higher education, an American Indian tribal college or university, or another institution of higher education whose minority student enrollment is at least 50 percent. Consistent with section 21(b)(2)(A), eligibility is limited to minority entities and Indian tribes.

New Freedom Initiative and the NIDRR Long-Range Plan

This priority reflects issues discussed in the New Freedom Initiative (NFI) and NIDRR's Long-Range Plan (the Plan). The NFI can be accessed on the Internet at: http://www.whitehouse.gov/news/freedominitiative/freedominiative.html.

The Plan can be accessed on the Internet at: http://www.gov/offices/OSERS/NIDRR/Products.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Analysis of Comments and Changes

There are no differences between the notice of proposed priority (NPP) and this notice of final priority (NFP).

In response to our invitation in the NPP, three parties submitted comments on the proposed priority. An analysis of the comments and of any changes in the priorities since publication of the NPP follows.

Comment: One commenter suggested that issues of minority-focused capacity building and rehabilitation research should be a shared responsibility across all NIDRR funded projects and activities. The commenter communicated that a more equitable sharing of this responsibility will improve research outcomes and provide greater educational opportunities for qualified minority students. It was further suggested that a collaborative model proposed under the priority for addressing underserved populations might be more effective if research area four of the priority was made mandatory or the wording in the first bullet following the proposed priorities was revised to identify non-minority institutions specifically.

Discussion: NIDRR continues to encourage collaboration between minority and non-minority entities across the NIDRR research agenda. The suggested activities specified in the published priority emphasize the need for applicants to propose and establish collaborative efforts with minority and non-minority entities, especially partnerships among minority entities and Indian Tribes for the purpose of capacity building, and particularly with a focus on establishing partnerships with non-minority entities. An applicant is required to demonstrate in its application for funding how it will address the requirement to collaborate. The peer review process will evaluate the merits of the proposed approach in establishing such collaborative efforts.

Change: None.

Comment: One commenter welcomed approaches that would improve the public rehabilitation system by increasing its capacity to address the needs of all individuals with disabilities. The commenter suggested that the availability of such approaches could assist in identifying staff training needs and strategies for use in responding to these needs.

Discussion: NIDRR intends that the proposed priority recognizes the need for research focused on achieving improved understanding of the needs of all individuals with disabilities, including individuals from diverse racial and ethnic groups, cultures, and backgrounds. This DRRP is being established for the purpose of fostering activities that will improve service delivery, the availability of appropriate support systems, training and dissemination of research information, and facilitating collaborative partnerships that can ensure and enhance capacity to address the needs of all individuals with disabilities.

Changes: None.

Comment: One commenter noted that drug and alcohol abuse, as well as mental health issues, affect the Native American population disproportionately in comparison to the non-Native population. It was also suggested that when this factor is compounded with the special issues of disability and the unavailability of local services, the problem becomes severe. The commenter noted that increased assistance is needed by way of services, input from the individual and tribe, discussions by all parties involved, communication, and oversight.

Discussion: The published priority does not preclude applicants from investigating, evaluating, and demonstrating strategies that are consistent with the suggestions of the commenter. The peer review process will enable the merits of strategies proposed in an application to be evaluated.

Change: None.

The background for the priority was published in the NPP.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Priority

This priority is intended to improve the quality and utility of research related to individuals with disabilities from traditionally underserved racial and ethnic populations and to enhance knowledge and awareness of issues related to these populations. The priority will achieve this goal by (1) building the capacity of researchers, especially individuals from traditionally underserved racial and ethnic populations, and (2) conducting disability research that examines the unique needs and factors that influence rehabilitation outcomes for individuals with disabilities from traditionally underserved racial and ethnic populations.

Applicants must choose a minimum of three and up to a maximum of five research areas below. Due to the need to focus research and capacity-building activities on specific groups or topics, applicants may target those populations appropriate to the activities that they propose.

The DRRP research and capacity-building areas are:

(1) To investigate and evaluate disability and rehabilitation outcomes for individuals with disabilities from traditionally underserved racial and ethnic populations in State vocational rehabilitation systems (VR), and assess between State and within State differences in outcomes.

(2) To investigate and evaluate access to and acceptance rates for VR services, types of services provided, and costs of rehabilitation services for individuals with disabilities from traditionally underserved racial and ethnic populations compared to non-minority individuals.

(3) To investigate, evaluate, and develop, as needed, indices and measures to assess the capacity of the disability and VR personnel workforce to provide quality services to individuals with disabilities from traditionally underserved racial and ethnic populations.

(4) To investigate, evaluate, and report activities that strengthen disability-related research collaboration between minority entities and non-minority entities, particularly collaboration to improve rehabilitation services and outcomes for traditionally underserved racial and ethnic populations.

(5) To investigate, develop as needed, and evaluate strategies for strengthening resources and research capacity of minority entities and Indian tribes, particularly the expertise and infrastructure requirements that are needed to ensure the optimal participation of minority entities and Indian tribes in disability and rehabilitation research.

(6) To investigate, develop, and evaluate strategies, such as cultural competency training, targeted recruitment efforts, and incentives, to include and enhance retention of students and investigators from traditionally underserved racial and ethnic populations as rehabilitation researchers, administrators, and educators.

(7) To investigate and evaluate the effect of persons from traditionally underserved racial and ethnic populations participating in disability and rehabilitation research activities, direct service delivery, and training programs, and determine to what extent participation assists to improve VR outcomes for underserved populations.

The DRRP project will provide information leading to better understanding of: (1) Factors that contribute to different VR outcomes for traditionally underserved racial and ethnic populations compared to non-minorities, (2) training needs and effective training strategies, (3) effective approaches for improving collaboration between minority entities and Indian tribes and other institutions, and (4) strategies that strengthen the research infrastructure and capacity-building for minority entities and Indian tribes.

In carrying out the purposes of the priority, the DRRP must:

• Through consultation with the NIDRR project officer, coordinate and establish partnerships, as appropriate, with other academic institutions and organizations that are relevant to the project's proposed activities, including minority entities and Indian tribes;

• Demonstrate use of culturally appropriate data collection, evaluation, dissemination, training, and research methodologies and significant knowledge of the needs of individuals with disabilities from traditionally underserved populations;

• Develop, implement, and evaluate dissemination strategies for research and capacity-building products developed by the project;

• Demonstrate appropriate multidisciplinary linkages;

• Develop and regularly update an online information dissemination system and make materials readily available in alternate formats;

• Conduct an annual evaluation of all activities undertaken in support of capacity-building using formal measures and indicators;

• Provide expertise, consultation, and technical assistance on capacity-building and cultural competence to individuals and organizations seeking information; and

• Ensure an interdisciplinary outreach effort in conducting research and capacity-building activities.

Intergovernmental Review

This program is not subject to Executive Order 12372 and the regulations in 34 CFR part 79.

Applicable Program Regulations: 34 CFR part 350.

Electronic Access to This Document

You may review this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.133A, Disability Rehabilitation Research Project.)

Program Authority: 29 U.S.C. 762(g) and 764(b).

Dated: January 13, 2003.
Robert H. Pasternack,
Assistant Secretary for Special Education and Rehabilitative Services.

[FR Doc. 03-1016 Filed 1-15-03; 8:45 am]

BILLING CODE 4000-01-P